DEPARTMENT OF HEALTH AND HUMAN SERVICES

Agency for Toxic Substances and Disease Registry

Community and Tribal Subcommittee of the Board of Scientific Counselors, Agency for Toxic Substances and Disease Registry: Meeting

In accordance with section 10(a)(2) of the Federal Advisory Committee Act (Pub. L. 92-463), the Agency for Toxic Substances and Disease Registry (ATSDR) announces the following subcommittee meetings.

Name: Community and Tribal Subcommittee.

Times and Dates: 8:30 a.m.-5 p.m., February 26, 2001, 8:30 a.m.-5 p.m., February 27, 2001.

Place: Radisson Inn at Executive Park, 2061 North Druid Hills Road, Atlanta, Georgia 30329.

Status: Open to the public, limited by the available space. The meeting room accommodates approximately 50 people.

Purpose: This subcommittee brings to the Board of Scientific Counselors, ATSDR, advice, citizen input, and recommendations on community and tribal programs, practices, and policies of the Agency.

Matters to be Discussed: Agenda items include an update on Action Items and Recommendations from previous meeting; CTS Special Consultant will update on attendance to the Environmental Protection Agency's National Environmental Justice Advisory Committee meeting; review of ATSDR's Research Agenda activities and new proposals; a presentation of the Strategic Planning current plan, mission and goal; viewing of the cultural sensitivity training issues video tape; CTS will give an update on the Task Group progress report and interactive session, and discuss the future activities of the Task Group.

Written comments are welcomed and should be received by the contact person listed below prior to the opening of the meeting.

Agenda items are subject to change as priorities dictate.

Contact Person For More Information: Robert Spengler, ScD, Executive Secretary, BSC, ATSDR contact, ATSDR, M/S E-28, 1600 Clifton Road, NE, Atlanta, Georgia 30333, telephone 404/639-0708.

The Director, Management Analysis and Services Office, has been delegated the authority to sign Federal Register notices pertaining to announcements of meetings and other committee management activities, for both the Centers for Disease Control and Prevention and the Agency for Toxic Substances and Disease Registry.

Dated: February 5, 2001.
Carolyn J. Russell,
Director, Management Analysis and Services Office, Centers for Disease Control and Prevention.

[FR Doc. 01-3486 Filed 2-9-01; 8:45 am]

BILLING CODE 4163-70-P